DEPARTMENT OF AGRICULTURE

Forest Service

Humboldt-Toiyabe National Forests; Santa Rosa Ranger District; Martin Basin Rangeland Management Project

AGENCY: Forest Service, USDA.

ACTION: Notice of intent to prepare a Supplemental Environmental Impact Statement.

SUMMARY: The Santa Rosa Ranger District of the Humboldt-Toiyabe National Forest will prepare a Supplemental Environmental Impact Statement (SEIS) on a proposal to authorize continued livestock grazing on National Forest System (NFS) lands within the boundaries administered by the Santa Rosa Ranger District. The Project Area is located in Humboldt County, Nevada.

The preparation of this SEIS is needed because the Record of Decision issued on June 2, 2006 for the Martin Basin Rangeland Management Project was appealed, and following review, the decision was reversed. The supplemental analysis will provide additional analysis and disclosure of environmental effects.

DATES: The Draft Supplemental EIS is expected to be released for public review and comment in April of 2007. The Final Supplemental EIS is expected in July of 2007.

ADDRESSES: Send written comments to: Jose Noriega, District Ranger, Santa Rosa Ranger District, 1200 East Winnemucca Blvd., Winnemucca, NV 89445.

FOR FURTHER INFORMATION CONTACT: Jose Noriega, District Ranger, Humboldt-Toiyabe National Forest, Telephone: 775-623-5025, extension 5.

SUPPLEMENTARY INFORMATION:

Background

Initiation of the Martin Basin Rangeland Project began in 2002 with the original Notice of intent published in the Federal Register on December 30, 2002. The Draft EIS was released in May of 2004 for a 135-day comment period. The Final EIS was released in June of 2005 and a 45-day comment period was also provided at that time. The Record of Decision for this project was issued on June 2, 2006, by, then Forest Supervisor, Robert L. Vaught.

The Record of Decision for the Martin Basin Rangeland Project was appealed to the Intermountain Regional Forester. On September 6, 2006, the Regional Forester issued a decision on the appeal and remanded the decision back to the Humboldt-Toiyabe National Forest for additional analysis.

Purpose of and Need for Action

The purpose and need as defined in the original FEIS will be modified to indicate more specifically the economic and environmental factors that propel both the authorization of grazing and the modification of the terms and conditions and strategies that govern our current permits.

Proposed Action and Alternatives

The Proposed Action and Alternatives as outlined in the Final Environmental Impact Statement will be supplemented to further define and provide additional details regarding the intent of those alternatives. This Supplemental EIS may also include one or more non-significant Forest Plan Amendments.

Responsible Official

The responsible official is: Edward C. Monnig, Forest Supervisor, Humboldt-Toiyabe National Forest, 1200 Franklin Way, Sparks, NV 89431.

Nature of Decision To Be Made

Given the purpose and need, the deciding officer will decide whether or not to continue grazing on the allotments within the Martin Basin Rangeland Project area. If the decision is to continue livestock grazing, then under what standards, mitigation measures and monitoring requirements it will be subject too.

Scoping Process

The scoping period for this EIS was formally initiated in December of 2002 when the original notice of intent for this project was published in the Federal Register (December 30, 2002; volume 67, Number 250). While no additional scoping periods are planned prior to the release of the Draft Supplemental Environmental Impact Statement those wishing to submit comments may do so at the address listed above for District Ranger Jose Noriega.

Early Notice of Importance of Public Participation in Subsequent Environmental Review

A Draft Supplemental Environmental Impact Statement will be prepared for comment. The comment period on the Draft Supplemental EIS will be 45 days from the date that the Environmental Protection Agency (EPA) publishes the notice of availability (NOA) in the Federal Register.

The Forest Service believes that, at this early stage, it is important to give reviewers notice of several court rulings related to public participation in the environmental review process. First, reviewers of draft EISs must structure their participation in the environmental review of the proposal so that it is meaningful and alerts an agency to the reviewer's position and contentions [Vermont Yankee Nuclear Power Corp. v. NRDC, 435 U.S. 519, 553 (1978)]. Also, environmental objections that could have been raised at the draft EIS stage but that are not raised until after completion of the final EIS may be waived or dismissed by the courts [City of Angoon v. Hodel, 803 F.2d 1016, 1022 (9th Cir. 1986) and Wisconsin Heritages, Inc. v. Harris, 490 F. Supp. 1334, 1338 (E.D. Wis. 1980)]. Because of these court rulings, it is very important that those interested in this Proposed Action participate by the close of the 45 day comment period so that substantive comments and objections are made available to the Forest Service at a time when it can consider them and respond to them in a meaningful manner within the final EIS.

To assist the Forest Service in identifying and considering issues and concerns regarding the Proposed Action, comments on the draft EIS should be as specific as possible. It is also helpful if the comments refer to specific pages, sections, or chapters of the draft document. Comments may also address the adequacy of the draft EIS or the merits of the alternatives formulated and discussed in the document. Reviewers may wish to refer to the Council on Environmental Quality (CEQ) Regulations for implementing the procedural provisions of the National Environmental Policy Act (NEPA) at 40 CFR 1503.3 in addressing these points.

Comments received, including the names and addresses of those who comment, will be considered part of the public record of this proposal and will be available for public inspection (Authority: 40 CFR 1501.7 and 1508.22; Forest Service Handbook 1909.15, Section 21).

Dated: January 24, 2007.
Edward C. Monnig,
Forest Supervisor.

[FR Doc. E7-3194 Filed 2-23-07; 8:45 am]

BILLING CODE 3410-11-P